DEPARTMENT OF ENERGY

Federal Energy Regulatory Commission

[Docket No. IC17-14-000]

Commission Information Collection Activities (FERC-725U); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection, FERC-725U, Mandatory Reliability Standards: Mandatory Reliability Standard CIP-014.

DATES: Comments on the collection of information are due October 31, 2017.

ADDRESSES: You may submit comments (identified by Docket No. IC17-14-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: Mandatory Reliability Standards: Reliability Standard CIP-014.

OMB Control No.: 1902-0274.

Type of Request: Three-year extension of the FERC-725U information collection requirements with no changes to the current reporting requirements.

Abstract: Reliability Standard CIP-014-2 ¹ requires applicable transmission owners and transmission operators to identify and protect transmission stations and transmission substations, and their associated primary control centers that if rendered inoperable or damaged as a result of a physical attack could result in instability, uncontrolled separation, or cascading within an Interconnection.

¹ Reliability Standard CIP-014-2 was implemented by the letter Order in Docket RD15-4-000 issued on 7/14/2015. RD15-4-000 was not submitted to OMB because it did not implicate the Paperwork Reduction Act. The revised standard became effective on 10/2/2015 and is now included in the FERC-725U information collection.

Transmission owners and transmission operators must keep data or evidence to show compliance with the standard for three years unless directed by its Compliance Enforcement Authority. If a responsible entity is found non-compliant, it must keep information related to the non-compliance until mitigation is complete and approved, or for the three years, whichever is longer.

Type of Respondents: Transmission owners (TO) and transmission operators (TOP).

Estimate of Annual Burden: ² The Commission estimates the annual public reporting burden for the information collection as:

² Burden is defined as the total time, effort, or financial resources expended by persons to generate, maintain, retain, or disclose or provide information to or for a Federal agency. For further explanation of what is included in the information collection burden, reference 5 CFR 1320.3.

FERC-725U—Mandatory Reliability Standards: Reliability Standard CIP-014
| Number and type of respondents | Number of responses per respondent | Total number of responses | Average burden hours and cost per response ³ | Total burden hours and total cost
| (1) | (2) | (1) * (2) = (3) | (4) | (3) * (4)
Year 1
R1 | 334 TO | 1 | 334 | 20 $1,280 | 6,680 $427,520
R2 | 334 TO | 1 | 334 | 34 $2,448 | 11,356 $817,632
R3 | 2 TOP | 1 | 2 | 1 $129 | 2 $258
R4 | 30 TO and 2 TOP | 1 | 32 | 80 $5,120 | 2,560 $163,840
R5 | 30 TO and 2 TOP | 1 | 32 | 320 $20,480 | 10,240 $655,360
R6 | 30 TO and 2 TOP | 1 | 32 | 304 $19,456 | 9,728 $622,592
Record Retention | 334 TO and 2 TOP | 1 | 336 | 2 $76 | 672 $25,536
Year 2
Record Retention | 334 TO and 2 TOP | 1 | 336 | 2 $76 | 672 $25,536
Year 3
R1 | 30 TO | 1 | 30 | 20 $1,280 | 600 $38,400
R2 | 30 TO | 1 | 30 | 34 $2,436 | 1,020 $73,080
R3 | 2 TOP | 1 | 2 | 1 $129 | 2 $258
R4 | 30 TO and 2 TOP | 1 | 32 | 80 $5,120 | 2,560 $163,840
R5 | 30 TO and 2 TOP | 1 | 32 | 80 $5,120 | 2,560 $163,840
R6 | 30 TO and 2 TOP | 1 | 32 | 134 $8,576 | 4,288 $274,432
Record Retention | 334 TO and 2 TOP | 1 | 336 | 2 $76 | 672 $25,536
Year 1 Total |  |  |  |  | 41,238 $2,712,738
Year 2 Total |  |  |  |  | 672 $25,536
Year 3 Total |  |  |  |  | 11,702 $739,386
TOTAL (for Years 1-3) |  |  |  |  | 53,612 $3,477,660
Average Annual Burden and Cost (for Years 1-3) |  |  |  |  | 17,871 $1,159,220

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The estimates for cost per response are derived using the following formula: Average Burden Hours per Response times XX per Hour = Average Cost per Response.

The hourly cost figures are based on data for wages plus benefits from the Bureau of Labor Statistics (as of 11/9/2016) at https://www.bls.gov/oes/current/naics2_22.htm and http://www.bls.gov/news.release/ecec.nr0.htm. The figures are rounded for the purposes of calculations in this table and are:

1. For electrical engineers, $64.29/hr., rounded to $64/hr.

2. for attorneys, $129.12/hr., rounded to $129/hr.

3. for administrative staff, $37.75/hr., rounded to $38/hr.

The record retention cost is based on the administrative staff category; R3 is based on the attorney category; Requirements R1, R4, R5 and R6 are based on the electrical engineer category; and R2 is a mix of the electrical engineer and related engineering review process (30 hrs. at $64/hr.) and attorney (4 hrs. at $129/hr.) categories. The resulting average hourly figure is $71.65, rounded to $72/hr.

Dated: August 25, 2017.
Kimberly D. Bose,
Secretary.

[FR Doc. 2017-18538 Filed 8-31-17; 8:45 am]

BILLING CODE 6717-01-P